AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration.

DATES: The meeting date is Tuesday, May 01, 9:00 a.m. to 12:00 p.m.

ADDRESSES: The meeting location is USADF, 1400 I St. NW, Suite 1000, Washington, DC 20005.

FOR FURTHER INFORMATION CONTACT: Marie-Cécile Groelsema, 202-233-8883.

Authority: Public Law 96-533 (22 U.S.C. 290h).

Dated: April 5, 2018.
June B. Brown,
General Counsel.

[FR Doc. 2018-07385 Filed 4-10-18; 8:45 am]

BILLING CODE 6117-01-P